DEPARTMENT OF HOUSING AND URBAN DEVELOPMENT

[Docket No. FR-7102-N-02; OMB Control No.: 2510-0006]

60-Day Notice of Proposed Information Collection: Legal Instructions Concerning Applications for Full Insurance Benefits—Assignment of Multifamily and Healthcare Mortgages to the Secretary

AGENCY: Office of the General Counsel, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: June 30, 2025.

ADDRESSES: Interested persons are invited to submit comments regarding this proposal. Written comments and recommendations for the proposed information collection can be sent within 60 days of publication of this notice to www.regulations.gov. Interested persons are also invited to submit comments regarding this proposal and comments should refer to the proposal by name and/or OMB Control Number and should be sent to: Nacheshia Foxx, Senior Clearance Officer, Department of Housing and Urban Development, 451 Seventh Street SW, Room 10276, Washington, DC 20410-0500.

FOR FURTHER INFORMATION CONTACT: Laura Scott, Deputy Assistant General Counsel for Office of Insured Housing, Multifamily Mortgage Division, Office of General Counsel, Department of Housing and Urban Development, 451 7th Street SW, Room 10172, Washington, DC 20410-0500, telephone (202) 402-6582. This is not a toll free number. HUD welcomes and is prepared to receive calls from individuals who are deaf or hard of hearing, as well as individuals with speech or communication disabilities. To learn more about how to make an accessible telephone call, please visit https://www.fcc.gov/consumers/guides/telecommunications-relay-service-trs. Copies of available documents submitted to OMB may be obtained from Ms. Foxx.

SUPPLEMENTARY INFORMATION: This notice informs the public that HUD is seeking approval from OMB for the information collection described in Section A.

A. Overview of Information Collection

Title of Information Collection: Legal Instructions Concerning Applications for Full Insurance Benefits—Assignment of Multifamily and Healthcare Mortgages to the Secretary (the “Legal Instructions”).

OMB Approval Number: 2510-0006.

Type of Request: Extension of a currently approved collection.

Form Number: HUD form 2510.

Description of the need for the information and proposed use: Mortgagees of FHA-insured mortgages may receive mortgage insurance benefits upon assignment of mortgages to the Secretary. In connection with the assignment, legal documents (e.g., mortgage, mortgage note, security agreement, title insurance policy) must be submitted to HUD. The instructions contained in the Legal Instructions describe the documents to be submitted and the procedures for submission.

The Legal Instructions, in its current form and structure, can be found at https://www.hud.gov/stat/ogc-legal-instructions-full-insurance-benefits.

HUD proposes to revise this document with clarifying changes and updates to reflect current HUD requirements and policies, including requiring electronic submission for legal review, as well as current practices in real estate, title insurance, hazard insurance and mortgage financing transactions. Requiring electronic submission reflects the current practices and preferences of respondents. Since HUD began accepting electronic submission, HUD has not received any physical submissions from respondents.

In addition, sample documents reflecting existing HUD requirements and policies are being provided to assist with compliance with the Legal Instructions.

Agency form numbers, if applicable: HUD form 2510.

Members of affected public: FHA-approved Mortgagees and their counsel who have or will have multifamily rental or healthcare loans.

Estimation of the total numbers of hours needed to prepare the information collection including number of respondents, frequency of response, and hours of response:

Number of respondents | Burden hours | Frequency of response | Total burden hours
24 * | 26.5 | 1 | 636
* This is the estimated number of respondents that could file a claim in a given year.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected;

(4) Ways to minimize the burden of the collection of information on those who are to respond; including through the use of appropriate automated collection techniques or other forms of information technology, e.g., requiring electronic submission of responses or revising the physical documentation requirements for electronically filed or issued response; and

(5) Whether any updates may be made to replace the existing formal legal language with plain language in the sample assignment documents of the proposed collection of information.

HUD encourages interested parties to submit comment in response to these questions.

C. Authority

12 U.S.C. 1701z-1 Research and Demonstrations.

Amanda Wahlig,
Acting Associate General Counsel for Legislation & Regulations.

[FR Doc. 2025-07370 Filed 4-28-25; 8:45 am]

BILLING CODE 4210-67-P